FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 5, 2013.

A. Federal Reserve Bank of St. Louis (Yvonne Sparks, Community Development Officer) P.O. Box 442, St. Louis, Missouri 63166-2034:

1. Marian V. Mehan, St. Louis, Missouri, as successor trustee of the Jolie Chase Knight Trust dated 12/20/01, and the Savannah Merrill Knight Trust dated 12/13/05, both in Thompsonville, Illinois; the Mark W. Knight Exempt Trust dated 12/11/95, St. Louis, Missouri; The EDK 2011 Family Trust Dated 5/26/2011, and The EDK Trust dated 2/18/05,both in Eldorado, Illinois; The 2010 John K. Pruellage Family Trust dated 12/22/10, St. Louis, Missouri; and the JCK 2012 Gift Trust dated 12/17/12, Thompsonville, Illinois; to retain voting shares of Banterra Corp., Eldorado, Illinois, and thereby indirectly retain voting shares of Banterra Bank, Marion, Illinois.

Board of Governors of the Federal Reserve System, February 12, 2013.
Margaret McCloskey Shanks,
Deputy Secretary of the Board.

[FR Doc. 2013-03564 Filed 2-14-13; 8:45 am]

BILLING CODE 6210-01-P